DEPARTMENT OF HEALTH AND HUMAN SERVICES

National Institutes of Health

Center for Scientific Review; Amended Notice of Meeting

Notice is hereby given of a change in the meeting of the Skeletal Biology Development and Disease Study Section, June 9, 2021, 10:00 a.m. to June 11, 2021, 5:00 p.m., National Institutes of Health, Rockledge II, 6701 Rockledge Drive, Bethesda, MD, 20892 which was published in the Federal Register on May 07, 2021, 86 FR 24635.

The meeting end time has changed from 5:00 p.m. to 8:30 p.m. The meeting is closed to the public.

Dated: May 21, 2021.
Melanie J. Pantoja,
Program Analyst, Office of Federal Advisory Committee Policy.

[FR Doc. 2021-11127 Filed 5-25-21; 8:45 am]

BILLING CODE 4140-01-P